DEPARTMENT OF HOMELAND SECURITY

Federal Emergency Management Agency

[Docket ID FEMA-2012-0003]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Madison (FEMA Docket No.: B-1269) | City of Huntsville (11-04-5937P) | The Honorable Tommy Battle, Mayor, City of Huntsville, P.O. Box 308, Huntsville, AL 35804 | City Hall, 308 Fountain Circle, Huntsville, AL 35801 | October 11, 2012 | 010153
Mobile (FEMA Docket No.: B-1269) | Unincorporated areas of Mobile County (12-04-0775P) | The Honorable Connie Hudson, President, Mobile County Commission, P.O. Box 1443, Mobile, AL 36633 | Mobile County, Government Plaza, Engineering Department, 205 Government Street, 3rd Floor, South Tower Mobile, AL 36644 | October 12, 2012 | 015008
Tuscaloosa (FEMA Docket No.: B-1269) | City of Tuscaloosa (11-04-6057P) | The Honorable Walter Maddox, Mayor, City of Tuscaloosa, 2201 University Boulevard, Tuscaloosa, AL 35401 | Engineering Department, 2201 University Boulevard Tuscaloosa, AL 35401 | October 11, 2012 | 010203
Tuscaloosa (FEMA Docket No.: B-1269) | Unincorporated areas of Tuscaloosa County (12-04-0429P) | The Honorable W. Hardy McCollum, President, Tuscaloosa County Commission, 714 Greensboro Avenue, Tuscaloosa, AL 35401 | Tuscaloosa County Engineering Department, 2810 35th Street, Tuscaloosa, AL 35401 | September 28, 2012 | 010201
Arizona:
Pima (FEMA Docket No.: B-1269) | Town of Sahuarita (12-09-1800P) | The Honorable Duane Blumberg, Mayor, Town of Sahuarita, 375 West Sahuarita Center Way, Sahuarita, AZ 85629 | Public Works Department, 375 West Sahuarita Center Way, Sahuarita, AZ 85629 | November 2, 2012 | 040137
Pima (FEMA Docket No.: B-1269) | Unincorporated areas of Pima County (12-09-1311P) | The Honorable Ramon Valadez, Chairman, Pima County Board of Supervisors, 130 West Congress Street, 11th Floor Tucson, AZ 85701 | Pima County Flood Control District, 97 East Congress Street, 3rd Floor Tucson, AZ 85701 | October 12, 2012 | 040073
Yavapai (FEMA Docket No.: B-1269) | Town of Clarkdale (11-09-3469P) | The Honorable Doug Von Gausig, Mayor, Town of Clarkdale, P.O. Box 308, Clarkdale, AZ 86324 | Public Works Department, 890 Main Street, Clarkdale, AZ 86324 | October 15, 2012 | 040095
Yavapai (FEMA Docket No.: B-1269) | Unincorporated areas of Yavapai County (11-09-3469P) | The Honorable Thomas Thurman, Chairman, Yavapai County Board of Supervisors, 1015 Fair Street, Prescott, AZ 86305 | Yavapai County Flood Control District, 500 South Marina Street, Prescott, AZ 86303 | October 15, 2012 | 040093
California:
Napa (FEMA Docket No.: B-1269) | City of St. Helena (12-09-0871P) | The Honorable Del Britton, Mayor, City of St. Helena, 1480 Main Street St., Helena, CA 94574 | Planning Department, 1480 Main Street St., Helena, CA 94574 | November 5, 2012 | 060208
Napa (FEMA Docket No.: B-1269) | Unincorporated areas of Napa County (12-09-0871P) | The Honorable Keith Caldwell, Chairman, Napa County Board of Supervisors, 1195 3rd Street, Suite 310, Napa, CA 94559 | Napa County Public Works Department, 1195 1st Street, Suite 201, Napa, CA 94559 | November 5, 2012 | 060205
Riverside (FEMA Docket No.: B-1269) | Unincorporated areas of Riverside County (12-09-1637P) | The Honorable John F. Tavaglione, Chairman, Riverside County Board of Supervisors, P.O. Box 1646, Riverside, CA 92502 | Riverside County Flood Control & Water Conservation District, 1995 Market Street, Riverside, CA 92501 | October 29, 2012 | 060245
San Bernardino (FEMA Docket No.: B-1269) | Town of Apple Valley (12-09-1775P) | The Honorable Barb Stanton, Mayor, Town of Apple Valley, 14955 Dale Evans Parkway, Apple Valley, CA 92307 | Town Hall, 14955 Dale Evans Parkway, Apple Valley, CA 92307 | October 15, 2012 | 060752
San Joaquin (FEMA Docket No.: B-1269) | City of Stockton (12-09-1923P) | The Honorable Ann Johnston, Mayor, City of Stockton, 425 North El Dorado Street, Stockton, CA 95202 | 345 North El Dorado Street, Stockton, CA 95202 | October 29, 2012 | 060302
San Joaquin (FEMA Docket No.: B-1269) | Unincorporated areas of San Joaquin County (12-09-1923P) | The Honorable Steve J. Bestolarides, Chairman, San Joaquin County Board of Supervisors, 44 North San Joaquin Street, Suite 627, Stockton, CA 95202 | 222 East Weber Avenue, Stockton, CA 95202 | October 29, 2012 | 060299
Colorado:
Adams (FEMA Docket No.: B-1269) | City of Westminster (11-08-0880P) | The Honorable Nancy McNally, Mayor, City of Westminster, 4800 West 92nd Avenue, Westminster, CO 80031 | Community Development, 4800 West 92nd Avenue, Westminster, CO 80031 | August 31, 2012 | 080008
Arapahoe (FEMA Docket No.: B-1269) | City of Centennial (12-08-0411P) | The Honorable Cathy Noon, Mayor, City of Centennial, 13133 East Arapahoe Road Centennial, CO 80112 | Southeast Metro Stormwater Authority, 76 Inverness Drive East, Suite A, Centennial, CO 80112 | October 29, 2012 | 080315
Arapahoe (FEMA Docket No.: B-1269) | Unincorporated areas of Arapahoe County (12-08-0411P) | The Honorable Nancy N. Sharpe, Chair, Arapahoe County Board of Commissioners, 5334 South Prince Street, Littleton, CO 80166 | Arapahoe County Public Works and Development Division, 6924 South Lima Street, Centennial, CO 80112 | October 29, 2012 | 080011
La Plata (FEMA Docket No.: B-1269) | Unincorporated areas of La Plata County (12-08-0428P) | The Honorable Robert Lieb, Jr., Chairman, La Plata County Board of Commissioners, 1060 East 2nd Avenue, Durango, CO 81301 | Administration Office, 1060 East 2nd Avenue, Durango, CO 81301 | October 8, 2012 | 080097
Routt (FEMA Docket No.: B-1269) | City of Steamboat Springs (12-08-0379P) | The Honorable Jon B. RobertsN Manager, City of Steamboat Springs, P.O. Box 775088, Steamboat Springs, CO 80477 | City Hall Department of Planning and Community Development, 124 10th Street Steamboat Springs, CO 80477 | October 22, 2012 | 080159
Florida:
Charlotte (FEMA Docket No.: B-1269) | Unincorporated areas of Charlotte County (12-04-3482P) | The Honorable Christopher Constance, Chairman, Charlotte County Board of Commissioners, 18500 Murdock Circle, Port Charlotte, FL 33948 | Building Construction Services, 18400 Murdock Circle, Port Charlotte, FL 33948 | October 12, 2012 | 120061
Escambia (FEMA Docket No.: B-1269) | Pensacola Beach-Santa Rosa Island Authority (12-04-2055P) | The Honorable Dave Pavlock, Chairman, Pensacola Beach-Santa Rosa Island Authority Board of Commissioners, P.O. Box 1208, Pensacola Beach, FL 32562 | Pensacola Beach-Santa Rosa Island Authority Development Department, 1 Via De Luna Drive, Pensacola Beach, FL 32561 | November 5, 2012 | 125138
Seminole (FEMA Docket No.: B-1269) | City of Winter Springs (11-04-8261P) | The Honorable Charles Lacey, Mayor, City of Winter Springs, 1126 East State Road 434, Winter Springs, FL 32708 | Engineering Department, 1126 East State Road 434, Winter Springs, FL 32708 | October 12, 2012 | 120295
Georgia:
Cherokee (FEMA Docket No.: B-1269) | Unincorporated areas of Cherokee County (12-04-1485P) | The Honorable L. B. Ahrens, Jr., Chairman, Cherokee County Board of Commissioners, 1130 Bluffs Parkway, Canton, GA 30114 | Cherokee County Engineering Department, 1130 Bluffs Parkway, Canton, GA 30114 | October 29, 2012 | 130424
Fulton (FEMA Docket No.: B-1269) | City of Sandy Springs (12-04-1394P) | The Honorable Eva Galambos, Mayor, City of Sandy Springs, 7840 Roswell Road, Building 500, Sandy Springs, GA 30350 | City Hall 7840 Roswell Road, Building 500, Sandy Springs, GA 30350 | September 7, 2012 | 130669
Mississippi: Lee (FEMA Docket No.: B-1269) | City of Tupelo (12-04-2986P) | The Honorable Jack Reed, Jr., Mayor, City of Tupelo, P.O. Box 1485, Tupelo, MS 38802 | City Hall Planning Department, 71 East Troy Street, 3rd Floor, Tupelo, MS 38804 | November 5, 2012 | 280100
Missouri: St. Louis (FEMA Docket No.: B-1269) | City of Chesterfield (12-07-1972P) | The Honorable Bruce Geiger, Mayor, City of Chesterfield, 690 Chesterfield Parkway West, Chesterfield, MO 63017 | City Hall Public Works Department, 690 Chesterfield Parkway West, Chesterfield, MO 63017 | October 26, 2012 | 290896
New York:
Rockland (FEMA Docket No.: B-1269) | Town of Clarkstown (12-02-0115P) | The Honorable Alexander J. Gromack, Supervisor, Town of Clarkstown, 10 Maple Avenue, New City, NY 10956 | Department of Environmental Control, 10 Maple Avenue, New City, NY 10956 | September 24, 2012 | 360679
Rockland (FEMA Docket No.: B-1269) | Village of Spring Valley (12-02-0115P) | The Honorable Noramie F. Jasmin, Mayor, Village of Spring Valley, 200 North Main Street, Spring Valley, NY 10977 | Village Hall, Building Department, 8 Maple Avenue, Spring Valley, NY 10977 | September 24, 2012 | 365344
South Carolina: Charleston (FEMA Docket No.: B-1269) | City of Folly Beach (12-04-1535P) | The Honorable Tim Goodwin, Mayor, City of Folly Beach, P.O. Box 1692, Folly Beach, SC 29439 | City Hall, 21 Center Street, Folly Beach, SC 29439 | October 12, 2012 | 455415
Tennessee: Williamson (FEMA Docket No.: B-1269) | Unincorporated areas of Williamson County (12-04-0338P) | The Honorable Rogers C. Anderson, Mayor, Williamson County, 1320 West Main Street, Suite 125, Franklin, TN 37064 | Williamson County Complex Planning Department, 1320 West Main Street, Suite 125, Franklin, TN 37064 | October 11, 2012 | 470204

(Catalog of Federal Domestic Assistance No. 97.022, “Flood Insurance.”)

James A. Walke,
Acting Deputy Associate Administrator for Mitigation, Department of Homeland Security, Federal Emergency Management Agency.

[FR Doc. 2012-31321 Filed 12-27-12; 8:45 am]

BILLING CODE 9110-12-P